DEPARTMENT OF EDUCATION

Applications for Selection as a Performance Partnership Pilot; Performance Partnership Pilots for Disconnected Youth

AGENCY: Office of Career, Technical, and Adult Education, Department of Education.

ACTION: Notice.

SUMMARY: The Department of Education (ED or Department) is issuing a notice inviting applications for selection as a performance partnership pilot for fiscal year (FY) 2023 under the Performance Partnership Pilots for Disconnected Youth (P3) authority. This notice relates to the approved information collection under OMB control number 1830-0575.

DATES:

Deadline for Transmittal of Applications: September 5, 2023.

Deadline for Intergovernmental Review: November 6, 2023.

Deadline for Requests for Technical Assistance (optional): August 7, 2023.

FOR FURTHER INFORMATION CONTACT: Braden Goetz, U.S. Department of Education, 400 Maryland Avenue SW, Room 10401, Potomac Center Plaza, Washington, DC 20202. Telephone: 202-245-7405. Email: DisconnectedYouth@ed.gov. Or Corinne Sauri, U.S. Department of Education, 400 Maryland Avenue SW, Room 10362, Potomac Center Plaza, Washington, DC 20202. Telephone: 202-245-6412.

If you are deaf, hard of hearing, or have a speech disability and wish to access telecommunications relay services, please dial 7-1-1.

SUPPLEMENTARY INFORMATION:

Full Text of Announcement

I. Pilot Opportunity Description

Purpose of Program: P3 was first authorized by Congress in FY 2014 by the Consolidated Appropriations Act, 2014 (2014 Act), and the authority has been included by Congress in appropriations acts each year since FY 2014, most recently in the Consolidated Appropriations Act, 2023 (Pub. L. 117-328) (2023 Act). The FY 2023 P3 authority enables pilot sites to blend FY 2023 Federal funds and obtain waivers of program requirements, including statutory, regulatory, and administrative requirements that are barriers to achieving improved outcomes for youth-serving programs included in the authority. Under P3, pilots can test innovative strategies to achieve significant improvements in educational, employment, and other key outcomes for disconnected youth using the flexibility provided by P3.

Background: Reengaging the more than 4.8 million young people in the United States who are neither working nor enrolled in school—and preventing other young people from joining them—is a national concern because their disconnection can have severe, long-term consequences.

Youth who drop out and never earn a high school credential have higher rates of unemployment, lower earnings, poorer health, and higher rates of mortality, and are more likely to be dependent on public assistance than those who earn a high school credential.¹ Interrupted or delayed schooling and employment also can have long-lasting consequences. Youth whose completion of high school is delayed are significantly less likely to enroll in postsecondary education after they do earn their high school credential.² Youth whose enrollment in postsecondary education is delayed after high school graduation are considerably more likely to drop out than peers who enter college immediately following high school.³ They also earn less as young adults, with one study estimating that those who delay entry into postsecondary institutions earn $41,000 less during the first 13 years after high school graduation than young adults who enrolled in college the semester after high school graduation.⁴ A prolonged period of unemployment experienced by a young adult can have an enduring negative consequence on his or her earnings that lasts as long as 9 years after he or she finds work.⁵

¹ Belfield, C. and Levin, H.M. Eds. (2007). The price we pay: Economic and social consequences of inadequate education. Washington, DC: Brookings Institution Press. Retrieved from: https://www.brookings.edu/book/the-price-we-pay/.

² Fogg, N.P. and Harrington, P.E. (2015). From Diplomas to Degrees: A Longitudinal Study of the College Enrollment and Graduation Outcomes of High School Graduates from the School District of Philadelphia. Philadelphia, PA: Drexel University Center for Labor Markets and Policy. Retrieved from: https://drexel.edu/~/media/Files/clmp/diplomas_to_degrees_full_report_2015.pdf.

³ Ibid., and Scott, M.A., and Kennedy, B.B. (2005). Pitfalls in Pathways: Some Perspectives on Competing Risks Event History Analysis in Education Research. Journal of Educational and Behavioral Statistics, Winter, 2005, Vol. 30, No. 4 (Winter, 2005), pp. 413-442. Retrieved from: https://www.jstor.org/stable/3701297.

⁴ Yuxin Lin, Y. and Ting Liu, V.Y. (2019). Timing Matters: How Delaying College Enrollment Affects Earnings Trajectories, CCRC Working Paper No. 105. New York, NY: Community College Research Center. Retrieved from: https://ccrc.tc.columbia.edu/publications/delaying-college-enrollment-earnings-trajectories.html.

⁵ Mroz, T.A. and Savage, T.H. (2006). The Long-Term Effects of Youth Unemployment. The Journal of Human Resources, Spring, 2006, Vol. 41, No. 2 (Spring, 2006), pp. 259-293. Retrieved from: https://www.jstor.org/stable/40057276.

P3 may be a useful tool in preventing and effectively addressing youth disconnection. It gives ED, the Departments of Labor (DOL), Health and Human Services (HHS), and Justice (DOJ),⁶ the Corporation for National and Community Service (CNCS), and the Institute of Museum and Library Services (collectively, the Agencies) authority, provided certain conditions and requirements are met, to waive Federal statutory and regulatory requirements that inhibit access to assistance and effective service delivery for disconnected youth.

⁶ DOJ's Office of Justice Programs was first authorized to enter into performance agreements by the Consolidated and Further Continuing Appropriations Act, 2015.

P3 authorizes the Agencies to enter into Performance Partnership Agreements (performance agreements) with State, local, or Tribal governments. The performance agreements provide pilots with additional flexibility in the use of certain discretionary funds administered by the Agencies,⁷ including competitive and formula grant funds. Pilots must include two or more Federal programs (at least one of which is administered in whole or in part by a State, local, or Tribal government) that target disconnected youth or are designed to prevent youth from disconnecting from school or work, and that provide education, training, employment, and other related social services. Entities that seek to participate in these pilots must commit to achieving significant improvements in outcomes for disconnected youth in exchange for flexibility permitted under P3. The authorizing statute states that improving outcomes for disconnected youth means increasing the rate at which those individuals between the ages of 14 and 24 who are low-income and are either homeless, in foster care, involved in the juvenile justice system, unemployed, or not enrolled in or at risk of dropping out of an educational institution achieve success in meeting educational, employment, or other key goals (2014 Act, section 526(a)(2)).

⁷ For the purposes of P3, discretionary funds are funds that Congress appropriates on an annual basis, rather than through a standing authorization. They exclude “entitlement” (or mandatory) programs, such as Social Security, Medicare, Medicaid, most Foster Care IV-E programs, Vocational Rehabilitation State Grants, and Temporary Assistance to Needy Families. Pell Grant funding, which is supported through a combination of discretionary and mandatory funding, is also excluded for the purposes of P3. Discretionary programs administered by the Agencies support a broad set of public services, including education, workforce development, health and mental health, and other low-income assistance programs.

This notice invites applications for selection as FY 2023 pilots and offers opportunities for prospective applicants to obtain optional technical assistance from the Agencies prior to applying. The purpose of the pre-application technical assistance is to help prospective applicants identify and propose to address—through waivers, blending of funds, or other flexibilities—Federal barriers to effective and integrated service delivery that will improve the educational and employment outcomes of disconnected youth.

If interest in technical assistance exceeds the Agencies' capacity to provide it, the Agencies will give first priority to assisting eligible entities that intend to serve communities that have experienced civil unrest because the statutory authority for FY 2023 directs the Agencies to include such communities among the designated pilots. Second priority will be given to requests for technical assistance from applicants that propose to serve the highest numbers of disconnected youth.

Flexibilities Available Under P3

P3 provides important opportunities to improve access to Federal programs and their effectiveness in addressing the needs of disconnected youth. The Agencies have published on Youth.gov a list of the waivers previously granted to pilots under the first three rounds of P3 in which pilots were designated.⁸ These waivers were helpful to the pilots that received them, and, in this latest round, the Agencies hope that applicants propose even more ambitious and bold efforts to remove Federal constraints on effective, innovative, and promising service delivery for disconnected youth. We provide several examples below.

⁸ The list of previously granted waivers is available at https://youth.gov/sites/default/files/P3-Waiver-List-FINAL_2018-12-10.pdf.

These examples are provided for illustrative purposes only, and the allowability of specific proposals will depend on the unique circumstances of individual applicants. Any waivers must be consistent with the statutory safeguards that apply to P3, discussed below, and the Agencies will consider whether the inclusion of a program in a specific pilot is consistent with, or conflicts with, other significant legal or policy considerations. Also, the Agencies will review the blending of competitive grants on a case-by-case basis to consider how the scope, objectives, and target populations of the existing awards align with the proposed pilot. Any changes in terms and conditions of the existing competitive grant awards required for pilot purposes must be justified by the applicant and consistent with the scope and objectives of the grantee's application. In addition, the Agencies can only waive Federal statutory or regulatory requirements and cannot waive State or local requirements. The Agencies encourage applicants to analyze whether implementation of their request also requires State or local statutory or regulatory flexibilities or waivers, as those rules are not under the jurisdiction of the Agencies to waive for P3.

Example A: P3 enables State, local, and Tribal governments to blend dollars from multiple Federal funding streams to provide more comprehensive, holistic services for youth without having to allocate costs among the contributing programs and separately track and report on each source of funding. For example, a State could propose to use P3 to support a comprehensive education, training, and reentry services program for youthful offenders before, during, and after their incarceration. Funding for the project could be contributed from the Governor's reserve of the State's Workforce Innovation and Opportunity Act (WIOA) Title I Youth program grant, the State's Juvenile Justice and Delinquency Prevention Act Title II State grant, and the State educational agency's Elementary and Secondary Education Act of 1965, as amended (ESEA) Title I, Part D grant for Prevention and Intervention Programs for Children and Youth Who are Neglected, Delinquent, or At-Risk. The State also could propose to use P3 to waive the statutory performance indicators and reporting requirements under the three programs, replacing them with one set of indicators tailored to match the objectives of the project that the State reports on annually. Funds available to the State for evaluation under section 116(e)(1) of WIOA could be used to evaluate the program.

Similarly, to expand mental health and well-being supports through comprehensive school-based mental health services, an LEA could blend funding from its ESEA Title IV, Part A subgrant and its FY 2023 continuation award for its School-Based Mental Health Services grant and braid ⁹ funding from its FY 2023 Project AWARE (Advancing Wellness and Resiliency in Education) grant from the Substance Abuse and Mental Health Services Administration in HHS to have school-based mental health services providers create learn-and-earn opportunities for high school students through which they receive a stipend paid with ESEA Title IV, Part A funds or academic credit for training in an evidence-based curriculum that teaches suicide prevention education and awareness, including associated risk factors, methods that students can use to seek help, and student resources for suicide awareness and prevention. This strategy promotes a supportive and inclusive school climate and also serves to develop the next generation of high-quality, trained school-based mental health services professionals.

⁹ Braiding funds means coordinating two or more funding sources to support the total cost of a service or activity while separately tracking and reporting on each source of funding. Cost-allocation methods are required to ensure that each funding source is charged its fair share. Blended funding combines two or more funding sources for one purpose without continuing to differentiate or track individual sources. See Urban Institute (2022), Local Workforce System Guide. Retrieved from: https://workforce.urban.org/node/57.html.

Example B: Registered Apprenticeship (RA) and pre-apprenticeship programs that are linked to RA programs can provide disconnected youth with a pathway to educational advancement and economic mobility. There is encouraging evidence that participation in RA programs is associated with significant earnings gains and that the costs to government of supporting RA programs are far exceeded by the benefits because the higher earnings of participants reduce their use of government programs.¹⁰ However, RA programs can be more challenging to finance than other programs and cost more to start up because they span and can draw funding from both postsecondary education and workforce development and require extensive coordination among funders and the employers who hire apprentices.¹¹ P3 can ease some of these challenges by enabling RA program sponsors, intermediaries, and other key players in creating RA and pre-apprenticeship to blend rather than braid funding from multiple Federal programs. For example, a State seeking to ensure there are trained workers who are ready to meet the demands of implementing the Infrastructure Investment and Jobs Act could create pre-apprenticeship and RA programs for disconnected youth by blending funds from Adult Education and Family Literacy Act (AEFLA) State leadership funds available under section 223 of WIOA, statewide youth activities under Title I of WIOA, Youth Title I formula funding, State leadership activities under the Carl D. Perkins Career and Technical Education Act, as amended by the Strengthening Career and Technical Education for the 21st Century Act (Perkins V), and the Social Services Block Grant.¹²

¹⁰ Reed, D. et al. (2012). An Effectiveness Assessment and Cost-Benefit Analysis of Registered Apprenticeship in 10 States. Oakland, CA: Mathematica Policy Research. Retrieved from: https://www.mathematica.org/publications/an-effectiveness-assessment-and-costbenefit-analysis-of-registered-apprenticeship-in-10-states. See also Katz, B. et al. (2022). Did Apprentices Achieve Faster Earnings Growth Than Comparable Workers? Findings from the American Apprenticeship Initiative Evaluation. Brief prepared for U.S. Department of Labor, Employment and Training Administration. Rockville, MD: Abt Associates; and Washington, DC: Urban Institute. Retrieved from: https://www.dol.gov/sites/dolgov/files/OASP/evaluation/pdf/AAI/AAI_Brief-Earnings_Growth_Final_508_9-2022.pdf.

¹¹ Koller, V., van Docto C., et al. (2019). Promising Approaches for Connecting Opportunity Youth to Registered Apprenticeships. Boston, MA: Jobs for the Future. Retrieved from: https://info.jff.org/promising-approaches-for-opportunity-youth.

¹² The Social Services Block Grant is authorized by Title XX of the Social Security Act (42 U.S.C. 1397).

Example C: Some Federal programs contain statutory or regulatory requirements that limit the duration of an individual's participation in a program. Due to service interruptions and disruptions caused by the COVID-19 pandemic, participants may not have been able to take full advantage of the opportunities provided by a program over the last year. A P3 applicant could seek flexibility to waive eligibility requirements to extend the duration of an individual's participation in the program as part of a larger strategy to compensate for the time and learning that youth lost due to the COVID-19 pandemic. For example, a State, local, or Tribal governmental unit administering a YouthBuild grant ¹³ could seek to extend program services to individuals beyond 24 months.

¹³ The YouthBuild grant program is authorized by section 171 of WIOA (29 U.S.C. 3226).

Example D: P3 authority can also be used by applicants to propose changes to projects funded under multiple Federal grants that are each, separately, intended to support programs designed to help disconnected youth achieve greater success in meeting their educational and employment goals. For example, a public college or university might propose to increase the share of the Federal Work Study (FWS) program funds available for Job Location and Development programs and waive the 25 percent cap on the amount of the school's allocation that may be used to pay wages to students employed with private, for-profit organizations so that it could use more than 25 percent of its FWS funds to provide students who are at risk of dropping out with subsidized career internships in the private sector that are aligned with students' educational and career goals. To help students identify their career goals, the college or university could partner with a local American Job Center, which uses funds from the WIOA Title I Adult program, to provide students with intensive career counseling and information relating to local occupations in demand and the earnings and skill requirements of those occupations. Similarly, a community college could request waivers to blend and use a portion of a TRIO Educational Opportunity Center grant and its WIOA Title II AEFLA program subgrant to implement an intensive integrated education and training (IET) program for young adults who lack a high school credential, or a State government could request authority to blend AEFLA funds with funds from a Second Chance Act grant from the Department of Justice to implement an IET program or wraparound academic support services for incarcerated individuals to prepare them for postsecondary education.

Example E: P3 waivers can help programs reach currently unserved disconnected youth. Current ED regulations for the TRIO programs limit participation in these programs to citizens or permanent residents of the United States, or individuals who are in the United States for other than a temporary purpose who provide evidence from the Immigration and Naturalization Service (INS) of their intent to become a permanent resident.¹⁴ Applying in partnership with affiliated local public institutions of higher education that administer TRIO grants, a multi-State consortium of public college or university systems that are considered units of State government could seek a waiver of this requirement so that their affiliated schools could use TRIO funds to serve disconnected youth who are not citizens or permanent residents of the United States, or individuals who are in the United States for other than a temporary purpose who provide evidence from the INS of their intent to become a permanent resident.

¹⁴ See 34 CFR 643.3 (Talent Search), 34 CFR 644.3 (Educational Opportunity Centers), 34 CFR 645.3 (Upward Bound), 34 CFR 646.3 (Student Support Services), and 34 CFR 647.3 (Ronald E. McNair Postbaccalaureate Achievement Program).

Example F: P3 waivers can make childcare more accessible for youth who are parents and pursuing a postsecondary degree or credential but at risk of leaving without a degree or credential or employment due to the lack of affordable, high-quality childcare. A public college or university that receives funds under the Strengthening Institutions program authorized by Title III, Part A of the HEA could obtain a waiver of the regulatory prohibition against using a portion of these funds for childcare services in order to augment the childcare services it provides with its Child Care Access Means Parents in School Program grant.

Example G: An LEA could use the P3 authority to create a comprehensive educational program to provide support to English learners (ELs) to support the successful transition from secondary school to postsecondary education and a career in a high-demand field, focusing on students who continue to be identified as ELs for more than 5 years, students who enroll with prior educational experiences other than formalized learning experiences, or who have special needs. Students who are proficient in both their home language and English are an asset, including in the labor market. For example, funds available under ESEA Title I, Part A and Title III could be used to support dual language programs for ELs to support language acquisition, including providing high-quality tutoring to support academic achievement. The LEA could also use ESEA Title IV, Part A funds to provide targeted support for ELs, including ELs with special needs. The LEA could use Perkins V funds to support career advising and navigation services and cover the costs associated with a career and technical education dual enrollment pathway or an apprenticeship where students can apply multilingual skill sets. The local workforce development board could also contribute funds to provide paid internships during the summer months.

Although P3 provides the Agencies broad waiver authority to increase flexibility and relieve burden in order to improve the effectiveness of Federal funding for disconnected youth, it is important to note that there are some limitations on the waivers. In particular, as stated in the original statutory authority for P3, the P3 waivers—

• May not involve any requirement related to nondiscrimination, wage and labor standards, or the allocation of funds to State and sub-State levels;

• Must be consistent with the statutory purposes of the Federal program for which such discretionary funds were appropriated;

• May not result in denying or restricting the eligibility of any individual for any of the services that (in whole or in part) are funded by the agency's programs and Federal discretionary funds that are involved in the pilot;

• Based on the best available information, may not otherwise adversely affect vulnerable populations that are the recipients of such services;

• Must be necessary to achieve the outcomes of the pilot as specified in the performance agreement, and no broader in scope than is necessary to achieve such outcomes; and

• Must result in either (a) realizing efficiencies by simplifying reporting burdens or reducing administrative barriers with respect to such discretionary funds; or (b) increasing the ability of individuals to obtain access to services that are provided by the discretionary funds.

FY 2023

P3 was reauthorized for FY 2023 for programs administered by all of the six Agencies, and the Agencies may select up to 10 pilots.

An applicant must propose to include FY 2023 funds from at least one of the six Agencies.

If Congress extends the P3 authority in future years, pilots may propose to amend the number of Federal programs supporting pilot activities using future funding appropriated. However, authority for pilots to expand in future years is subject to congressional action as well as agency discretion.

Application Requirements: The application requirements for this opportunity are from the notice of final priorities, requirements, definitions, and selection criteria for this program published on April 28, 2016, in the Federal Register (81 FR 25339) (P3 NFP) and are as follows:

(a) Executive summary. The applicant must provide an executive summary that briefly describes the proposed pilot, the flexibilities being sought, and the interventions or systems changes that would be implemented by the applicant and its partners to improve outcomes for disconnected youth.

(b) Flexibility, including waivers:

Federal requests for flexibility, including waivers. For each program to be included in a pilot, the applicant must complete Table 1, Requested Flexibility. The applicant must identify two or more discretionary Federal programs that will be included in the pilot,¹⁵ at least one of which must be administered (in whole or in part) by a State, local, or Tribal government.¹⁶ In Table 1, the applicant must identify one or more program requirements that would inhibit implementation of the pilot and request that the requirement(s) be waived in whole or in part. Examples of potential waiver requests and other requests for flexibility include, but are not limited to, blending of funds and changes to align eligibility requirements, allowable uses of funds, and performance reporting.

¹⁵ Applicants are encouraged to consult the list of examples of programs that are potentially eligible for inclusion in pilots at https://youth.gov/youth-topics/reconnecting-youth/performance-partnership-pilots/round-4-program-list.

Table 1—Requested Flexibility
Program name | Federal agency | Program requirements to be waived in whole or in part | Statutory or regulatory citation | Name of program grantee | Blending funds? (Yes/No)
Note: Please note in “Name of Program Grantee” if the grantee is a State, local, or Tribal government, or nongovernmental entity.

Program Requirements: The program requirement for this opportunity is from the P3 NFP.

Performance Agreement. Each P3 pilot, along with other non-Federal government entities involved in the partnership, must enter into a performance agreement that will include, at a minimum, the following (as required by section 526(c)(2) of Division H of the 2014 Act):

(a) The length of the agreement;

(b) The Federal programs and federally funded services that are involved in the pilot;

(c) The Federal discretionary funds that are being used in the pilot;

(d) The non‐Federal funds that are involved in the pilot, by source (which may include private funds as well as governmental funds) and by amount;

(e) The State, local, or Tribal programs that are involved in the pilot;

(f) The populations to be served by the pilot;

¹⁶ Local governments that are requesting waivers of requirements in State-administered programs are strongly encouraged to consult with the State agencies that administer the programs in preparing their applications.

(g) The cost-effective Federal oversight procedures that will be used for the purpose of maintaining the necessary level of accountability for the use of the Federal discretionary funds;

(h) The cost-effective State, local, or Tribal oversight procedures that will be used for the purpose of maintaining the necessary level of accountability for the use of the Federal discretionary funds;

(i) The outcome (or outcomes) that the pilot is designed to achieve;

(j) The appropriate, reliable, and objective outcome measurement methodology that will be used to determine whether the pilot is achieving, and has achieved, specified outcomes;

(k) The statutory, regulatory, or administrative requirements related to Federal mandatory programs that are barriers to achieving improved outcomes of the pilot; and

(l) Criteria for determining when a pilot is not achieving the specified outcomes that it is designed to achieve and subsequent steps, including:

(1) The consequences that will result; and

(2) The corrective actions that will be taken in order to increase the likelihood that the pilot will achieve such specified outcomes.

Definitions: The following definitions are from the P3 NFP.

Blended funding is a funding and resource allocation strategy that uses multiple existing funding streams to support a single initiative or strategy. Blended funding merges two or more funding streams, or portions of multiple funding streams, to produce greater efficiency and/or effectiveness. Funds from each individual stream lose their award-specific identity, and the blended funds together become subject to a single set of reporting and other requirements, consistent with the underlying purposes of the programs for which the funds were appropriated.

An interim indicator is a marker of achievement that demonstrates progress toward an outcome and is measured at least annually.

Outcomes are the intended results of a program or intervention. They are what applicants expect their projects to achieve. An outcome can be measured at the participant level (for example, changes in employment retention or earnings of disconnected youth) or at the system level (for example, improved efficiency in program operations or administration).

A waiver provides flexibility in the form of relief, in whole or in part, from specific statutory, regulatory, or administrative requirements that have hindered the ability of a State, locality, or Tribe to organize its programs and systems or provide services in ways that best meet the needs of its target populations. Under P3, waivers provide flexibility in exchange for a pilot's commitment to improve programmatic outcomes for disconnected youth consistent with underlying statutory authorities and purposes.

Program Authority: Section 523 of Title III, Division H of the Consolidated Appropriations Act, 2023 (Pub. L. 117-328).

Note: Projects will be awarded and must be operated in a manner consistent with the nondiscrimination requirements contained in Federal civil rights laws.

Applicable Regulations: (a) The Education Department General Administrative Regulations in 34 CFR parts 75, 77, 79, 81, 82, 86, 97, 98, and 99, and such other regulations as the Agencies may apply based on the programs included in a particular pilot. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The P3 NFP.

Note: The regulations in 34 CFR part 86 apply to institutions of higher education only.

II. Performance Pilot Designation Information

Type of Award: Flexibility.

Estimated Available Funds: None.

Estimated Number of Designations: 10 pilots.

Project Period: FY 2023 pilots may operate for as long as FY 2023 appropriated funds remain available to pilots to obligate to support project activities, but not past September 30, 2027.

III. Eligibility Information

1. Eligible Applicants: The lead applicant must be a State, local, or Tribal government entity, represented by a chief executive, such as a governor, mayor, or other elected leader, or the head of a State, local, or Tribal agency.

2. Cost Sharing or Matching: This program does not require cost sharing or matching.

IV. Application and Submission Information

1. Application Submission Instructions: Applicants must submit completed applications to DisconnectedYouth@ed.gov unless electronic submission is not possible. Where electronic submission is not possible (e.g., you do not have access to the internet), you must provide a written statement that you intend to submit a paper application. Send this written statement no later than 2 weeks before the application deadline date (14 calendar days or, if the 14th calendar day before the application deadline date falls on a Federal holiday, the next business day following the Federal holiday). If you mail your written statement to the Department, it must be postmarked no later than 2 weeks before the application deadline date. Please send this statement to the person listed in the FOR FURTHER INFORMATION CONTACT section of this notice. If you submit a paper application, you must mail the original and two copies of your application, on or before the application deadline date, to the Department at the following address: U.S. Department of Education, Application Control Center, LBJ Basement Level 1, 400 Maryland Avenue SW, Washington, DC 20202-4260. You must show proof of mailing consisting of one of the following: (1) A legibly dated U.S. Postal Service postmark. (2) A legible mail receipt with the date of mailing stamped by the U.S. Postal Service. (3) A dated shipping label, invoice, or receipt from a commercial carrier. (4) Any other proof of mailing acceptable to the Secretary of the U.S. Department of Education. If you mail your application through the U.S. Postal Service, we do not accept either of the following as proof of mailing: (1) A private metered postmark. (2) A mail receipt that is not dated by the U.S. Postal Service.

Note: The U.S. Postal Service does not uniformly provide a dated postmark. Before relying on this method, you should check with your local post office.

We will not consider applications postmarked after the application deadline date.

2. Submission of Proprietary Information: Given the types of projects that may be proposed in applications for the P3 opportunity, your application may include business information that you consider proprietary. In 34 CFR 5.11 we define “business information” and describe the process we use in determining whether any of that information is proprietary and, thus, protected from disclosure under Exemption 4 of the Freedom of Information Act (5 U.S.C. 552, as amended).

Because we plan to make successful applications available to the public, including performance agreements, and may make all applications available, you may wish to request confidentiality of business information.

Consistent with Executive Order 12600, please designate in your application any information that you believe is exempt from disclosure under Exemption 4. In the appropriate appendix section of your application, please list the page number or numbers on which we can find this information. For additional information please see 34 CFR 5.11(c).

3. Intergovernmental Review: This program is subject to Executive Order 12372 and the regulations in 34 CFR part 79.

4. Recommended Page Limit: The application narrative is where you, the applicant, provide the information specified in the application requirements and address the selection criteria that reviewers use to evaluate your application. We recommend that you (1) limit the application narrative to no more than 5 pages and (2) use the following standards:

• A “page” is 8.5″ x 11″, on one side only, with 1″ margins at the top, bottom, and both sides.

• Double-space (no more than three lines per vertical inch) all text in the application narrative, including titles, headings, footnotes, quotations, references, and captions.

• Use a font that is either 12 point or larger.

• Use one of the following fonts: Times New Roman, Courier, Courier New, or Arial.

5. Requests for Technical Assistance: For interested eligible entities, the Agencies are offering technical assistance over the next several months that will help prospective applicants to identify Federal impediments to effective and integrated service delivery for disconnected youth and flexibilities that can be removed under P3 and to develop an application submission for a P3 pilot. The Agencies want to engage with as many eligible entities as possible and will accept technical assistance requests on a rolling basis until August 7, 2023. If interest in technical assistance exceeds the Agencies' capacity to provide it, the Agencies will give first priority to assisting eligible entities that intend to serve communities that have experienced civil unrest, because the statutory authority for FY 2023 directs the Agencies to include such communities among the designated pilots.¹⁷ Second priority will be given to requests for technical assistance from applicants that propose to serve the highest numbers of disconnected youth. To request technical assistance, please email DisconnectedYouth@ed.gov with the subject line “Request for Technical Assistance,” and include the prospective applicant's name, a contact person's name and email address, and the names of the Federal programs that the prospective applicant is interested in including in a P3 pilot. Applicants that do not request technical assistance may still apply for designation as a pilot; applicants that do request technical assistance are not bound to apply or bound by the information provided in their initial request for technical assistance.

¹⁷ Section 523(a), Title III, Division H, Consolidated Appropriations Act, 2023, Public Law 117-328.

6. Other Submission Requirements: Applications under this opportunity must be submitted electronically unless electronic submission is not possible.

Please note the following:

• The Department is not publishing an application package for this program. To submit an application, provide all of the information specified in the application requirements. Additionally, complete and submit Standard Form 424B, Assurances for Non-Construction Programs (available at https://youth.gov/youth-topics/reconnecting-youth/performance-partnership-pilots) with your application.

• The Department must receive your application by 11:59 p.m. Eastern Standard Time on September 5, 2023. We will notify you if we are rejecting your application because it was received after the application deadline date.

• We may request that you provide us original signatures on forms at a later date.

V. Application Review Information

1. Review and Selection Process: The Department will screen applications that are submitted in accordance with the requirements in this notice and will determine which applications are eligible to be read based on whether they have met the eligibility and application requirements.

The Secretary of Education (Secretary) will also consider compliance with assurances, including those applicable to Federal civil rights laws that prohibit discrimination in programs or activities receiving Federal financial assistance (such as, for ED programs, 34 CFR 100.4, 104.5, 106.4, 108.8, and 110.23).

2. Review of Requests for Flexibility, Including Blending of Funds and Other Waivers: Representatives of the Agencies that administer programs under which flexibility in Federal requirements is sought will evaluate whether the flexibility, including blending of funds and other waivers, requested by applicants meets the statutory requirements for P3 and is otherwise appropriate. For example, if an applicant is seeking flexibility under programs administered by HHS and DOL, its requests for flexibility will be reviewed by HHS and DOL officials. Applicants may be asked to participate in telephone calls at this point in the process in order to clarify requests for flexibility and other aspects of their proposals.

3. Selecting Finalists: Agency officials may recommend projects for selection by the Secretary of Education. In consultation with the other Agencies, the Secretary will select up to 10 finalists after considering the recommendations of the Agencies that administer the programs for which the applicants are seeking flexibility, and other information, including an applicant's performance and use of funds and compliance history under a previous award under any agency program. In selecting pilots, the Secretary will first give priority to applicants that will serve communities that have experienced civil unrest, to address the statutory requirement that designated pilots include communities that have experienced civil unrest, and will then select those applications that will serve the highest numbers of disconnected youth.

For each finalist, ED and any other Agencies implicated in the pilot will negotiate the performance agreement. If a performance agreement cannot be finalized for an applicant, an alternative applicant may be selected as a finalist instead. The recommended projects will be considered finalists until performance agreements are signed by all parties, and pilot designation will be awarded only after finalization and approval of each finalist's performance agreement.

VI. Designation Administration Information

1. Designation Notices: If your application is successful, we notify your U.S. Representative(s) and U.S. Senators and send you a letter notification of your selection as a pilot. We may notify you informally, also.

If your application is not evaluated or not selected as a pilot, we will notify you.

2. Performance Measures: The performance agreement for each pilot will include outcome measures, interim indicators, and targets.

VII. Other Information

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Amy Loyd,
Assistant Secretary for Career, Technical, and Adult Education.

[FR Doc. 2023-14288 Filed 7-6-23; 8:45 am]

BILLING CODE 4000-01-P